DEPARTMENT OF JUSTICE

Notice of Lodging of Proposed Consent Decree Under the Clean Air Act

On March 16, 2015, the Department of Justice lodged a proposed Consent Decree with the United States District Court for the Southern District of Indiana in the lawsuit entitled United States and the State of Indiana v. Exide Technologies, Civil Action No. 15-cv-433 (S.D. Ind.).

A Complaint that was filed along with the proposed Consent Decree alleges that Exide Technologies (“Exide”) has violated the Clean Air Act and its implementing regulations, certain terms and conditions of Exide's Clean Air Act Title V operating permit, and corresponding requirements under Indiana state law at its secondary lead smelting facility in Muncie, Indiana. The proposed Consent Decree would resolve the claims alleged in the Complaint in exchange for Exide's commitment to make specific improvements to its air pollution control and monitoring systems at its Muncie facility, including installing a new furnace exhaust gas afterburner, and to pay civil penalties to the United States and the State. The penalties would be paid as allowed claims in Exide's pending Chapter 11 bankruptcy proceeding, captioned In re Exide Technologies, No. 13-11482-KJC (Bankr. D. Del.). The Consent Decree would grant the United States and the State equivalent allowed penalty claims in the bankruptcy totaling $820,000, including a $246,000 allowed administrative expense claim and a $164,000 allowed general unsecured claim each for the United States and the State.

The publication of this notice opens a period for public comment on the proposed Consent Decree. Comments should be addressed to the Assistant Attorney General, Environment and Natural Resources Division, and should refer to United States and the State of Indiana v. Exide Technologies, D.J. Ref. No. 90-5-2-1-11003. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, D.C. 20044-7611.

During the public comment period, the Consent Decree may be examined and downloaded at this Justice Department Web site: http://www.usdoj.gov/enrd/Consent_Decrees.html. We will provide a paper copy of the Consent Decree upon written request and payment of reproduction costs (at 25 cents per page). Please mail your request and a check or money order payable to the United States Treasury to: Consent Decree Library, U.S. DOJ—ENRD, P.O. Box 7611, Washington, DC 20044-7611.

The cost for a paper copy of the Consent Decree is $8.25.

Randall M. Stone,
Acting Assistant Section Chief, Environmental Enforcement Section, Environment and Natural Resources Division.

[FR Doc. 2015-06369 Filed 3-19-15; 8:45 am]

BILLING CODE 4410-15-P